DEPARTMENT OF HEALTH AND HUMAN SERVICES

Announcement of Requirements and Registration for “EHR Accessibility Challenge”

AGENCY: Office of the National Coordinator for Health Information Technology, HHS.

ACTION: Notice.

SUMMARY: The “EHR Accessibility Challenge” challenges multidisciplinary teams to create and test a module or application that makes it easy for disabled consumers to access and interact with the health data stored in their EHRs. Accessibility and usability in health IT are high priority issues for the disability community. A consumer-oriented system providing easy-to-use access to health information would be a valuable tool and significantly improve the health of disabled individuals.

The statutory authority for this challenge competition is Section 105 of the America COMPETES Reauthorization Act of 2010 (Pub. L. 111-358).

DATES: Effective on January 24, 2012.

FOR FURTHER INFORMATION CONTACT: Adam Wong, (202) 720-2866; Wil Yu, (202) 690-5920.

SUPPLEMENTARY INFORMATION:

Subject of Challenge Competition: According to 2000 estimates from the U.S. Bureau of Census, people with disabilities constitute 19.3% of the non-institutionalized population 5 years of age or older. Among adults, individuals with disabilities are four times as likely to report having fair or poor health compared to those without a disability (40% vs. 10%). Health expenditures for people with disabilities are estimated at $400 billion, more than a quarter of all heath expenditures.

Health information technology (HIT) and electronic health records (EHRs) hold great promise in improving the health outcomes and coordination of care for people with disabilities. However, the accessibility and usability of HIT is a matter of serious concern to people of diverse disabilities, including those who have vision, hearing, intellectual, manual dexterity, mental health, developmental and other types of disabilities.

ONC is challenging multidisciplinary teams to create and test a module or application that makes it easy for disabled consumers to access and interact with the health data stored in their EHRs. The application should be easy for individuals with disabilities to consume and interact with their health data, be simple to install and learn to use, identify and link to relevant local or online communities and organizations, be able to download data from one or more EHR systems, and leverage and extend NwHIN standards and services.

Eligibility Rules for Participating in the Competition:

To be eligible to win a prize under this challenge, an individual or entity:

(1) Shall have registered to participate in the competition under the rules promulgated by Office of the National Coordinator for Health Information Technology;

(2) Shall have complied with all the requirements under this section;

(3) In the case of a private entity, shall be incorporated in and maintain a primary place of business in the United States, and in the case of an individual, whether participating singly or in a group, shall be a citizen or permanent resident of the United States; and

(4) May not be a Federal entity or Federal employee acting within the scope of their employment.

An individual or entity shall not be deemed ineligible because the individual or entity used Federal facilities or consulted with Federal employees during a competition if the facilities and employees are made available to all individuals and entities participating in the competition on an equitable basis.

Registered participants shall be required to agree to assume any and all risks and waive claims against the Federal Government and its related entities, except in the case of willful misconduct, for any injury, death, damage, or loss of property, revenue, or profits, whether direct, indirect, or consequential, arising from their participation in a competition, whether the injury, death, damage, or loss arises through negligence or otherwise.

Participants shall be required to obtain liability insurance or demonstrate financial responsibility, in amounts determined by the head of the Office of the National Coordinator for Health Information Technology, for claims by—

(1) A third party for death, bodily injury, or property damage, or loss resulting from an activity carried out in connection with participation in a competition, with the Federal Government named as an additional insured under the registered participant's insurance policy and registered participants agreeing to indemnify the Federal Government against third party claims for damages arising from or related to competition activities; and

(2) the Federal Government for damage or loss to Government property resulting from such an activity.

Participants must be teams of at least two people.

All participants are required to provide written consent to the rules upon or before submitting an entry.

Dates:

• Submission Period Begins: 12:01 a.m., EDT, January 24, 2012.

• Submission Period Ends: 11:59 p.m., EDT, July 23, 2012.

Registration Process for Participants:

To register for this challenge participants should:

• Access the www.challenge.gov Web site and search for the “EHR Accessibility Challenge”.

• Access the ONC Investing in Innovation (i2) Challenge Web site at:

○ http://www.health2challenge.org/onc-i2-challenges/

○ A registration link for the challenge can be found on the landing page under the challenge description.

Amount of the Prize:

• First Prize: $60,000.

• Second Prize: $20,000.

• Third Prize: $5,000.

Awards may be subject to Federal income taxes and HHS will comply with IRS withholding and reporting requirements, where applicable.

Basis upon Which Winner Will be Selected:

The judging panel will make selections based upon the following criteria:

1. Design and Usability for the Disabled User.

2. Creative and Innovative Use of Technologies.

3. Compliance with disability and accessibility standards including 508 and W3C.

4. Integration of Module with HIT and EHR Systems.

5. Potential for Impact and Ability to Drive Adoption and Engagement.

6. Use of NwHIN standards including transport, content, and vocabularies.

Additional Information:

Ownership of intellectual property is determined by the following:

• Each entrant retains title and full ownership in and to their submission. Entrants expressly reserve all intellectual property rights not expressly granted under the challenge agreement.

• By participating in the challenge, each entrant hereby irrevocably grants to Sponsor and Administrator a limited, non-exclusive, royalty free, worldwide, license and right to reproduce, publically perform, publically display, and use the Submission to the extent necessary to administer the challenge, and to publically perform and publically display the Submission, including, without limitation, for advertising and promotional purposes relating to the challenge.

Authority: 15 U.S.C. 3719.

Dated: January 23, 2012.
Farzad Mostashari,
National Coordinator for Health Information Technology.

[FR Doc. 2012-1849 Filed 1-26-12; 8:45 am]

BILLING CODE 4150-45-P